DEPARTMENT OF COMMERCE

International Trade Administration

[A-533-810]

Stainless Steel Bar From India: Notice of Intent To Partially Rescind Antidumping Duty Administrative Review

AGENCY: Import Administration, International Trade Administration, Department of Commerce.

SUMMARY: In response to requests from interested parties, the Department of Commerce is conducting an administrative review of the antidumping duty order on stainless steel bar from India for the period February 1, 2005, through January 31, 2006. The Department intends to rescind this review with respect to Viraj Alloys, Ltd., Viraj Forgings, Ltd., Viraj Impoexpo, Ltd., Viraj Smelting, Viraj Profiles, and VSL Wires, Ltd., after concluding that there were no entries of merchandise subject to the order during the period of review.

DATES: Effective Date: May 24, 2006.

FOR FURTHER INFORMATION CONTACT: Scott Holland, AD/CVD Operations, Office 1, Import Administration, International Trade Administration, U.S. Department of Commerce, 14th Street and Constitution Avenue, NW., Washington, DC 20230; telephone (202) 482-1279.

SUPPLEMENTARY INFORMATION:

Background

On February 21, 1995, the Department of Commerce (the “Department”) published in the Federal Register the antidumping duty order on stainless steel bar (“SSB”) from India. See Antidumping Duty Orders: Stainless Steel Bar from Brazil, India and Japan, 60 FR 9661 (February 21, 2005). On February 1, 2006, the Department published a notice in the Federal Register providing an opportunity for interested parties to request an administrative review of the antidumping duty order on SSB from India for the period of review (“POR”) February 1, 2005, through January 31, 2006. See Antidumping or Countervailing Duty Order, Finding, or Suspended Investigation; Opportunity To Request Administrative Review, 71 FR 5239 (February 1, 2006). On February 4, 2006, we received a timely request for administrative review from Isibars Limited (“Isibars”). On February 28, 2006, timely review requests were received from Facor Steels Limited (“Facor”); Mukand Limited (“Mukand”); and Carpenter Technology Corporation, Electralloy Company, Crucible Specialty Metals, North American Stainless, Universal Stainless, and Valbruna Slater Stainless, Inc. (collectively, the “petitioners”). The petitioners requested an administrative review of the following companies because, according to the request, the petitioners believed these firms were manufacturing and/or exporting the subject merchandise to the United States: the “Viraj Group, including but necessarily limited to Viraj Alloys, Ltd., Viraj Forgings, Ltd., Viraj Impoexpo, Ltd., Viraj Smelting, Viraj Profiles, and VSL Wires, Ltd.”; Akai Asian; Atlas Stainless (“Atlas”); Bhansali Bright Bars Pvt. Ltd. (“Bhansali”); Grand Foundry, Ltd. (“Grand Foundry”); Meltroll Engineering Pvt. Ltd. (“Meltroll”); Sindia Steels Limited (“Sindia”); Snowdrop Trading Pvt. Ltd. (“Snowdrop”); and Venus Wire Industries Pvt. Ltd. (“Venus”).

On April 5, 2006, in accordance with section 751(a) of the Tariff Act of 1930, as amended (“the Act”), the Department initiated an administrative review of the antidumping duty order on SSB from India with respect to Akai Asian, Atlas, Bhansali, Facor, Grand Foundry, Isibars, Meltroll, Mukand, Sindia, Snowdrop, Venus, and conditionally initiated an administrative review with respect to Viraj Alloys, Ltd. (“VAL”), Viraj Impoexpo, Ltd. (“VIL”), Viraj Forgings, Ltd. (“VFL”), Viraj Smelting, Viraj Profiles, and VSL Wires, Ltd., (collectively, the “Viraj entities”).¹ See Initiation of Antidumping and Countervailing Duty Administrative Reviews and Deferral of Administrative Reviews, 71 FR 17077 (April 5, 2006) (“Initiation Notice”). In the Initiation Notice, the Department stated that, although the Department revoked the order in part with respect to entries of the merchandise subject to the order produced and exported by Viraj (Viraj Alloys, Ltd., Viraj Impoexpo, Ltd., Viraj Forgings, Ltd.), the Department was conditionally initiating a review with respect to Viraj Alloys, Ltd., Viraj Impoexpo, Ltd., Viraj Forgings, Ltd., Viraj Smelting, Viraj Profiles, and VSL Wires, Ltd., pending further information from the requestor as to sales of subject merchandise not covered by the revocation.²

¹ For this Federal Register notice, we use the terms “Viraj,” “the Viraj Group” and “the Viraj entities” interchangeably. Moreover, this notice pertains only to the Department's intent to rescind the current administrative review with respect to the Viraj entities. Therefore, this notice will not discuss developments in the administrative review with respect to Akai Asian, Atlas, Bhansali, Facor, Grand Foundry, Isibars, Meltroll, Mukand, Sindia, Snowdrop, and Venus.

² The Department revoked the order in part, with respect to entries of merchandise subject to the order produced and exported by “Viraj,” a collapsed entity. Viraj included Viraj Alloys, Ltd.; Viraj Impoexpo, Ltd.; and Viraj Forgings, Ltd. The revocation was effective February 1, 2003. See Stainless Steel Bar From India; Final Results, Rescission of Antidumping Duty Administrative Review in Part, and Determination to Revoke in Part, 69 FR 55409, 55410-11 (September 14, 2004).

Scope of the Order

Merchandise covered by the order is shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this proceeding. See Memorandum to Barbara E. Tillman, Antidumping Duty Orders on Stainless Steel Bar from India and Stainless Steel Wire Rod from India: Final Scope Ruling (May 23, 2005).

Post-Initiation Developments

On April 6, 2006, the Department requested that, in light of the previous revocation determination, the petitioners clarify the specific producers or exporters for which they were seeking review and, for each company, whether they were requesting a review as to merchandise produced by that company, or only merchandise exported by that company. Moreover, the Department indicated that absent adequate clarification, it intended to rescind the administrative review with respect to the Viraj Group. See April 6, 2006, letter from Julie H. Santoboni, Program Manager, to the petitioners.

On April 7, 2006, the petitioners responded to the Department's request for further information stating that they were seeking a review of any of the listed companies (i.e., the Viraj Group) in their capacity as either a producer or exporter (or both, with the exception of VAL, VIL, and VFL) of merchandise subject to the order during the POR. Furthermore, the petitioners urged the Department to seek information as to whether the named companies shipped merchandise subject to the order to the United States during the POR. The petitioners also referred to the changes in operation among the various Viraj entities that the Department recognized in pre-revocation reviews.

Therefore, in light of the revocation and the petitioners' request, we determined that it was appropriate to ascertain whether there were suspended entries of merchandise subject to the order during the POR from the Viraj entities. We examined shipment data obtained from U.S. Customs and Border Protection (“CBP”) and placed these data on the record on May 9, 2006. See Memorandum to the File, “U.S. Customs and Border Protection Data,” dated May 9, 2006. Based on this information, we determined that there are no suspended entries of merchandise subject to the order involving any of the Viraj entities for the POR. See Memorandum from Susan Kuhbach, Office Director to Stephen J. Claeys, Deputy Assistant Secretary, “2005-2006 Administrative Review of the Antidumping Duty Order on Stainless Steel Bar from India—Rescission of Review of the Viraj Group Companies,” dated May 18, 2006.

In April 2006, the Department issued a request for information from all of the respondents in this review concerning the quantity and value of the merchandise subject to the order shipped to the United States during the POR. On May 1, 2006, the Viraj entities submitted the requested quantity and value information to the Department.

Intent to Partially Rescind the Administrative Review

Section 751(a) of the Act instructs the Department that, when conducting administrative reviews, it is to determine the dumping margin for entries during the period. Further, according to 19 CFR 351.213(d)(3), the Department will rescind an administrative review in whole or only with respect to a particular exporter or producer if it concludes that, during the POR, there were no entries, exports, or sales of the subject merchandise, as the case may be. The Department has interpreted the statutory and regulatory language as requiring “that there be entries during the period of review upon which to assess antidumping duties.” See Granular Polytetrafluoroethylene Resin from Japan: Notice of Rescission of Antidumping Duty Administrative Review, 70 FR 44088, 44088 (August 1, 2005). In Allegheny Ludlum Corp. v. United States, 346 F.3d 1368 (Fed. Cir. 2003), the Court of Appeals for the Federal Circuit upheld the Department's practice of rescinding annual reviews when there are no entries of subject merchandise during the POR. See also Stainless Steel Plate in Coils from Taiwan: Final Rescission of Antidumping Duty Administrative Review, 68 FR 63067, 63068 (November 7, 2003) (stating that “the Department's interpretation of its statute and regulations, as affirmed by the Court of Appeals for the Federal Circuit, supports not conducting an administrative review when the evidence on the record indicates that respondents had no entries of subject merchandise during the POR”).

Because there were no entries of merchandise subject to the order during the POR from any of the Viraj companies named in the notice of initiation, we intend to rescind the administrative review with respect to Viraj. Thus, the statute, the regulations, previous administrative decisions, and case law all support rescission of the administrative review in this case. Therefore, the Department intends to rescind the administrative review with respect to the Viraj entities.

Public Comment

Interested parties may comment on the Department's notice of intent to rescind the administrative review with respect to the Viraj entities not later than 15 days after the date of publication of this notice in the Federal Register. Rebuttal comments, must be filed not later than 10 days after the time limit for filing the initial comments. Comments will be considered in the Department's preliminary results, which are currently due October 31, 2006.

This notice is published in accordance with sections 751(a)(1) and 777(i) of the Act and 19 CFR 351.213(d)(4).

Dated: May 18, 2006.
Stephen J. Claeys,
Deputy Assistant Secretary for Import Administration.

[FR Doc. E6-7970 Filed 5-23-06; 8:45 am]

BILLING CODE 3510-DS-P